DEPARTMENT OF AGRICULTURE

Forest Service

Deschutes Provincial Advisory Committee (DPAC)

AGENCY: Forest Service, Interior.

ACTION: Notice of meeting.

SUMMARY: The Deschutes Provincial Advisory Committee will meet on October 8, 2009, to review the PAC Recommendation from the Restoration Subcommittee, Update members on Travel Management Subcommittee and the DEIS), and then visit the field on the Bend-Ft. Rock Ranger District to discuss fire in ponderosa pine ecosystems. The meeting will start at 8:30 a.m. at the Bend-Ft.Rock Ranger District at Red Oaks Square, 1230 NE 3 St, Suite A-262, Bend, Oregon in the East/West Conference Room.

Members will be updated on the Winter Recreation Sustainability Analysis. Following an Open Public Forum, members will travel to the field to have lunch and visit examples of prescribed burning. The trip is scheduled to end at 4:30 p.m. in Bend. All Deschutes Province Advisory Committee Meetings are open to the public.

FOR FURTHER INFORMATION CONTACT: Chris Mickle, Province Liaison, Crescent Ranger District, Highway 97, Crescent, Oregon 97733, Phone (541) 433-3216.

John Allen,
Deschutes National Forest Supervisor.

[FR Doc. E9-22891 Filed 9-24-09; 8:45 am]

BILLING CODE 3410-11-M